DEPARTMENT OF EDUCATION

[CFDA NO. 84.031H]

Office of Postsecondary Education; Strengthening Institutions (SIP), American Indian Tribally Controlled Colleges and Universities (TCCU), Alaska Native and Native Hawaiian-Serving Institutions (ANNH) and Hispanic-Serving Institutions (HSI) Programs; Notice of Reopening the Processes for Designation as an Eligible Institution for Fiscal Year (FY) 2001 and FY 2002 for a Limited Purpose

Summary: An institution of higher education (IHE) that is designated an eligible institution under the SIP, TCCU, ANNH and HSI Programs may receive a waiver of certain non-Federal share requirements under the Federal Work Study (FWS) and Federal Supplemental Educational Opportunity Grant (FSEOG) Programs. The SIP, TCCU, and ANNH Programs are authorized under Title III, Part A of the Higher Education Act of 1965, as amended (HEA). The HSI Program is authorized under Title V of the HEA. The FWS and FSEOG Programs are authorized under Title IV of the HEA.

On November 16, 2000 and December 26, 2001, we published Federal Register notices (65 FR 69291-69293 and 66 FR 66407-66409) that announced the processes for IHEs to apply for eligibility designation for FY 2001 and FY 2002 for the SIP, TCCU, ANNH and the HSI Programs. Some IHEs did not meet the established deadlines for submitting the applications, and therefore were not designated eligible to receive waivers of certain cost-sharing requirements under the FWS and FSEOG Programs. We are reopening the FY 2001 and FY 2002 eligibility processes to allow IHEs to apply for designation as eligible institutions under the SIP, TCCU, ANNH and HSI Programs for the limited purpose of receiving waivers of certain non-Federal share requirements of the FWS and FSEOG Programs for FY 2001 and FY 2002.

Deadline for Transmittal of Applications: January 31, 2003.

Applications Available: November 15, 2002.

For Applications and Further Information Contact: Thomas M. Keyes, Margaret A. Wheeler or Ellen Sealey, Institutional Development and Undergraduate Education Service, U. S. Department of Education, 1990 K Street, Room 6048, Request for FY 2001 and FY 2002 Eligibility Designation, Washington, DC 20202-8513. Mr. Keyes's telephone number is (202) 502-7577. Ms. Wheeler's telephone number is (202) 502-7583. Ms. Sealey's telephone number is (202) 502-7580. They may be reached via Internet:

Thomas.Keyes@ed.gov

Margaret.Wheeler@ed.gov

Ellen.Sealey@ed.gov

If you use a telecommunications device for the deaf (TDD), you may call the Federal Information Relay Service (FIRS) at 1-800-877-8339.

Individuals with disabilities may obtain this document in an alternative format (e.g., Braille, large print, audio tape, or computer diskette) on request to the contact persons listed under For Applications and Further Information Contact.

Individuals with disabilities may obtain a copy of the application package in an alternative format by contacting those persons. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF, you must have Adobe Acrobat Reader, which is available free at this site. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1057-1059d, 1101-1103g.

Dated: November 12, 2002.
Sally L. Stroup,
Assistant Secretary, Office of Postsecondary Education.

[FR Doc. 02-29036 Filed 11-14-02; 8:45 am]

BILLING CODE 4000-01-P